DEPARTMENT OF THE TREASURY

Alcohol and Tobacco Tax and Trade Bureau

27 CFR Part 9

[Docket No. TTB-2021-0001; Notice No. 200]

RIN 1513-AC73

Proposed Establishment of the Upper Lake Valley Viticultural Area and Modification of the Clear Lake Viticultural Area

AGENCY: Alcohol and Tobacco Tax and Trade Bureau, Treasury.

ACTION: Notice of proposed rulemaking.

SUMMARY: The Alcohol and Tobacco Tax and Trade Bureau (TTB) proposes to establish the approximately 17,360-acre “Upper Lake Valley” viticultural area in Lake County, California. TTB also proposes to expand the boundary of the existing 1,093-square mile Clear Lake viticultural area so that the proposed Upper Lake Valley viticultural area is wholly within it. Both the established Clear Lake viticultural area and the proposed Upper Lake Valley viticultural area are entirely within the established North Coast viticultural area. TTB designates viticultural areas to allow vintners to better describe the origin of their wines and to allow consumers to better identify wines they may purchase. TTB invites comments on these proposals.

DATES: Comments must be received by June 15, 2021.

ADDRESSES: You may electronically submit comments to TTB on this proposal, and view copies of this document, its supporting materials, and any comments TTB receives on it within Docket No. TTB-2021-0001 as posted on Regulations.gov (https://www.regulations.gov), the Federal e-rulemaking portal. Please see the “Public Participation” section of this document below for full details on how to comment on this proposal via Regulations.gov or U.S. mail, and for full details on how to obtain copies of this document, its supporting materials, and any comments related to this proposal.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated the functions and duties in the administration and enforcement of these provisions to the TTB Administrator through Treasury Order 120-01, dated December 10, 2013 (superseding Treasury Order 120-01, dated January 24, 2003).

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA or modifying the boundary of an established AVA, and provides that any interested party may petition TTB to establish a grape-growing region as an AVA or to modify the boundary of an established AVA. Section 9.12 of the TTB regulations (27 CFR 9.12) prescribes the standards for petitions for the establishment or modification of AVAs. Petitions to establish an AVA, or modify the boundary of an AVA, must include the following:

• Evidence that the area within the proposed AVA boundary, or the region within the proposed expansion area, is nationally or locally known by the AVA name specified in the petition;

• An explanation of the basis for defining the boundary of the proposed AVA or defining the boundary of the proposed expansion area;

• A narrative description of the features of the proposed AVA or proposed expansion area affecting viticulture, such as climate, geology, soils, physical features, and elevation, that make the proposed AVA or expansion area distinctive and distinguish it from adjacent areas outside the proposed AVA boundary or established AVA boundary;

• The appropriate United States Geological Survey (USGS) map(s) showing the location of the proposed AVA or proposed expansion area, with the boundary of the proposed AVA or proposed expansion area clearly drawn thereon;

• If the proposed AVA or proposed expansion area is to be established within, or overlapping, an existing AVA, an explanation that both identifies the attributes of the proposed AVA or proposed expansion area that are consistent with the existing AVA, and explains how the proposed AVA or proposed expansion area is sufficiently distinct from the existing AVA and therefore appropriate for separate recognition; and

• A detailed narrative description of the proposed AVA or proposed expansion area boundary based on USGS map markings.

Petition To Establish the Upper Lake Valley AVA and Modify the Boundary of the Clear Lake AVA

TTB received a petition from Terry Dereniuk, on behalf of the Growers of Upper Lake Valley, proposing the establishment of the “Upper Lake Valley” AVA. The proposed Upper Lake Valley AVA is located within Lake County, California, and lies within the established North Coast AVA (27 CFR 9.30) and partially within the established Clear Lake AVA (27 CFR 9.99). The proposed AVA contains approximately 17,360 acres and has 16 commercially-producing vineyards covering a total of approximately 300 acres. At the time the petition was submitted, at least one additional vineyard was planned within the proposed AVA.

Although most of the proposed Upper Lake Valley AVA is located within the existing Clear Lake AVA, a small portion of the northwest corner of the proposed AVA would, if established, extend beyond the boundary of the Clear Lake AVA. To address the overlap of the two AVAs and account for viticultural similarities between the proposed Upper Lake Valley AVA and the larger Clear Lake AVA, the petition also proposes to expand the boundary of the Clear Lake AVA so that the entire proposed Upper Lake Valley AVA would be included within the Clear Lake AVA.

According to the petition, the distinguishing features of the proposed Upper Lake Valley AVA include its hydrogeology, soils, and climate. Although the petition included information on the geology of the proposed AVA and the surrounding regions, TTB determined that geology is such an integral part of hydrogeology and the characteristics of the aquifers the waters therein that it should not be considered a distinguishing feature separate from hydrogeology. Unless otherwise noted, all information and data pertaining to the proposed AVA contained in this document are from the petition for the proposed Upper Lake Valley AVA and its supporting exhibits.

Proposed Upper Lake Valley AVA

Name Evidence

The proposed Upper Lake Valley AVA is located along the northern shore of Clear Lake and incorporates the town of Upper Lake, California. The petitioners proposed the name “Upper Lake Valley” to reflect the proposed AVA's topography of alluvial valley floors and the surrounding hillsides. The petition included evidence that the name has been used to describe the region of the proposed AVA since the late 1800's. For example, an 1881 book about the history of Lake County makes several references to “Upper Lake Valley.” ¹ The book contains a list of geographical features in Lake County, including an entry for “Upper Lake Valley,” which is located “around the head of Clear Lake, and is eight miles long and from one to five miles wide.” ² In another reference, the book notes that an 1842 land grant included “a part of Upper Lake Valley.” ³ A third reference in the book states that a series of valleys, including Bachelor Valley, “all center around the head of Clear Lake, and form what is known as Upper Lake Valley.” ⁴ TTB notes that Bachelor Valley is located within the proposed Upper Lake Valley AVA.

¹ Palmer, Lyman L., Wallace, W.F., and Wells, Harry L. History of Napa and Lake Counties, California. San Francisco: Slocum, Bowen & Co., 1881. See Exhibit 6 of the Name Evidence Appendix to the petition in Docket TTB-2021-0001 at https://www.regulations.gov.

² Ibid. page 5.

³ Ibid. page 70.

⁴ Ibid. page 191.

The petition also included examples of the current use of the name “Upper Lake Valley” to describe the region of the proposed AVA. For example, the Lake County Groundwater Management Plan ⁵ makes multiple references to the Upper Lake Valley groundwater basin and includes a map ⁶ which shows the basin covering the region of the proposed AVA. The Lake County Winegrape Commission's web page notes, “Mountain valleys around Clear Lake, including Big Valley District, Upper Lake Valley, Clover Valley, Bachelor Valley, and Scotts Valley, are level with deep alluvial deposits.” ⁷ A real estate website ⁸ and a website for finding city sales tax rates ⁹ both include listings for “Upper Lake/Upper Lake Valley.” Finally, a recent newspaper article about the history of growing green beans in the region of the proposed AVA states that a prominent bean farmer's “acreage was located in the Upper Lake valley [sic].” ¹⁰

⁵ http://www.lakecountyca.gov/Assets/Departments/WaterResources/IRWMP/Lake+County+Groundwater+Managment+Plan.pdf. See Exhibit 1 of the Name Evidence Appendix to the petition.

⁶ See Figure 1-1 of the Lake County Groundwater Management Plan, which is included in Exhibit 1 of the Name Evidence Appendix to the petition.

⁷ https://www.lakecountywinegrape.org/region/terroir/soils. See Exhibit 2 of the Name Evidence Appendix to the petition.

⁸ www.redfin.com. See Exhibit 4 of the Name Evidence Appendix to the petition.

⁹ www.sale-tax.com/UpperLakeUpperLakeValleyCA. See Exhibit 3 of the Name Evidence Appendix to the petition.

¹⁰ www.record-bee.com/2016/06/17/blue-lakes-green-beans. See Exhibit 5 of the Name Evidence Appendix to the petition.

Boundary Evidence

The proposed Upper Lake Valley AVA encompasses a series of valleys, along with their surrounding hillsides, that run in a north-northeasterly direction from the shores of Clear Lake. The northern boundary is generally concurrent with the northern boundary of the established Clear Lake AVA and separates the proposed AVA from the higher, rugged elevations of the Mendocino National Forest. The eastern boundary follows the 1,600-foot elevation contour and also separates the proposed AVA from the Mendocino National Forest. The southern boundary follows the northern shore of Clear Lake. A portion of the western boundary follows a series of roads and the 1,600-foot elevation contour to separate the proposed AVA from the higher terrain of the Mayacamas Mountains. The remainder of the western boundary is a straight line between points that is concurrent with the established Clear Lake AVA boundary and also separates the proposed AVA from the Mayacamas Mountains.

Distinguishing Features

The distinguishing features of the proposed Upper Lake Valley AVA are its hydrogeology, soils, and climate.

Hydrogeology

According to the petition, the proposed Upper Lake Valley AVA has four identified water-bearing formations: Quaternary alluvium; Pleistocene terrace deposits; Pleistocene lake and floodplain deposits; and Plio-pleistocene cache creek. These formations make up the Upper Lake Groundwater Basin, which covers the majority of the proposed AVA. The Quaternary alluvium and Pleistocene terrace, lake, and floodplain deposits are the primary sources of groundwater within the proposed AVA. The petition states that groundwater levels within the Upper Lake Groundwater Basin are generally within 10 feet of the surface and fluctuate between 5 and 15 feet lower in the fall. Lowering of water levels during dry months is not excessive and is balanced by rapid recovery of water level elevations during the wet months.

According to a bulletin from the California Department of Water Resources, the predominant groundwater types in the Upper Lake Groundwater Basin are magnesium bicarbonate and calcium carbonate water.¹¹ The bulletin also shows high iron, manganese, and calcium levels in the groundwater, as well as high electrical conductivity. Boron was detected in some wells used in the bulletin's analysis, but high boron levels are not associated with the groundwater in the proposed Upper Lake Valley AVA. The bulletin's analysis showed a total dissolved solids average of 500 mg/L.

¹¹ California Department of Water Resources. California's Ground Water Bulletin 118. California Department of Water Resources: 1975. Updated 2004; see https://water.ca.gov/-/media/DWR-website/web pages/Programs/Groundwater-Management/Bulletin-118/Files/2003-Basin-Descriptions/5_013_UpperLake.pdf.

The petition states that water for irrigation is critical for wine grape production within the proposed AVA. The water quality in the proposed Upper Lake Valley AVA is suitable for irrigation and has few impediments. The high levels of calcium are desirable, since low levels of calcium may cause deficiencies in vine growth. Low levels of boron in the groundwater are also desirable for irrigation purposes, as levels of 2 mg/L and above are toxic to most plants. The low levels of dissolved solids are also beneficial, since total dissolved solids levels above 2,000 mg/L are very likely to cause vine growth problems. However, the high iron and manganese levels in the water of the proposed AVA can cause irrigation equipment to clog.

The Gravelly Valley Groundwater Basin lies to the north of the proposed Upper Lake Valley AVA, within the Mendocino National Forest. The petition states that no additional information was available about this basin. To the east of the proposed AVA lies the High Valley Groundwater Basin, which is formed by rocks of the Jurassic-Cretaceous Franciscan Formation and Quaternary Holocene volcanics. The groundwater is characterized as magnesium bicarbonate with high levels of ammonia, phosphorous, chloride, iron, boron, and manganese. During the spring, the High Valley Groundwater Basin water level is 10 to 30 feet below the surface, with the summer drawdown 5 to 10 feet below the spring level. Spring groundwater levels have fluctuated widely over the years, with incidences of slow recovery after periods of drought.

Additionally, Clear Lake is to the immediate south of the proposed AVA, while the Big Valley Groundwater Basin is farther south. The prominent groundwater formations in this basin are Quaternary Alluvium and Upper Pliocene to Lower Pliocene Volcanic Ash Deposit. California Groundwater Bulletin 118 notes that boron is an impairment in the water in some parts of the Big Valley Groundwater Basin.¹² Groundwater levels in the northern portion of the Big Valley Basin are usually 5 feet below the surface and decrease 10 to 50 feet during the summer. In the uplands of the basin, the depth to water in the spring is much deeper, ranging from 70 to 90 feet below the surface and dropping an additional 30 to 40 feet over the summer. To the west of the proposed AVA is the Scotts Valley Groundwater Basin, which consists of rocks from the Jurassic-Cretaceous Franciscan Formation. California Groundwater Bulletin 118 lists iron, manganese, and boron as impairments of groundwater in this basin.¹³ Depth to water in the spring is 10 feet below the surface on the average, with spring to summer drawdown ranging from 30 to 60 feet below spring levels depending on location across the Scotts Valley Groundwater Basin.

¹² California Department of Water Resources. California's Ground Water Bulletin 118. California Department of Water Resources: 1975. Updated 2004; https://water.ca.gov/-/media/DWR-website/web pages/Programs/Groundwater-Management/Bulletin-118/Files/2003-Basin-Descriptions/5_015_BigValley.pdf.

¹³ California Department of Water Resources. California's Ground Water Bulletin 118. California Department of Water Resources: 1975. Updated 2004; https://water.ca.gov/-/media/DWR-website/web pages/Programs/Groundwater-Management/Bulletin-118/Files/2003-Basin-Descriptions/5_014_ScottsValley.pdf.

Soils

According to the petition, many different soil series make up the soils of the proposed Upper Lake Valley AVA. However, three general soil map units broadly characterize the area: Millsholm-Skyhigh-Bressa; Still-Lupoyoma; and Tulelake-Fluvaquentic-Haplawuolls. Soils from these three units make up over 56 percent of the total area of the proposed AVA. Millsholm-Skyhigh-Bressa soils are formed from sandstone and shale and are primarily loams and clay loams. These soils are moderately deep, moderately-well to well-drained, and have slopes that range from moderately sloping to steep. Soils from the Still-Lupoyoma general map unit occur on the nearly-level valley floors and consist of loams and silt loams. These soils are very deep, with rooting depths of 60 inches or more, and are moderately-well to well-drained. Soils from the Tulelake-Fluvaquentic-Haplawuolls map unit occur in marshy and reclaimed areas around Clear Lake and Tule Lake. Soils of this unit are very deep silty clay loams with poor to very poor drainage.

The petition states that soil composition, depth, and drainage are key components of vine and fruit development. According to the petition, most of the vineyards in the proposed Upper Lake Valley AVA are planted on Still-Luopyoma soils due to the gentle slopes, which create less of an erosion hazard and provide good drainage. These soils are also deep, which allows the roots to extend farther than in shallow soils. Grapevines are “deep-rooted plants that fully explore the soil to 6 to 10 feet or more if root penetration is not obstructed by hardpan, impervious clay substratum, toxic concentrations of salts, or a free water table.” ¹⁴ The petition states that soils of the Tulelake-Fluvaquentic-Haplawuolls map unit, which are also very deep, may also be suitable for viticulture where poor drainage can be mitigated. Although soils of the Millsholm-Skyhigh-Bressa map unit are more shallow than soils of the other two map units, the petition states that shallow soils can also be desirable for viticulture because “[t]he quality of fruit is better, although yields are usually lower, on soils * * * limited in depth by hardpan, rocks, or clay substrata.” ¹⁵ However, because these soils are found on steeper slopes, there is a risk of erosion.

¹⁴ Albert J. Winkler et al., General Viticulture (Berkeley: University of California Press, 2nd ed. 1974, page 71.

¹⁵ Ibid, page 71.

To the north of the proposed Upper Lake Valley AVA, within the Mendocino National Forest, the soils belong to the Maymen-Etsel and the Sanhedrin-Speaker-Kekawaka soil map units. These soils are not very prevalent in the proposed AVA and are described as shallow soils with outcroppings of large stones, including greywackes and sandstone. To the east of the proposed AVA, the most common soil map units are the Maymen-Etsel, Sobrante-Guenoc-Hambright, and the Sanhedrin-Speaker-Kekawaka units, which are also not common within the proposed AVA and occur mostly on very steep slopes. South of the proposed AVA, within the Big Valley District AVA (27 CFR 9.232), the soils belong to the Cole-Clear Lake Variant-Clear Lake general soil map unit. To the west of the proposed AVA, the soils are from the Millsholm-Skyhigh-Bressa soil map unit and then transition to the Maymen-Etsel soil map unit in the higher elevations of the Mayacamas Mountains.

Climate

The petition for the proposed Upper Lake Valley AVA included information on the climate of the region, including rainfall, frost-free days, wind, and growing degree days.

Rainfall. According to the petition, rainfall amounts in Lake County vary greatly due to the rapid changes in topography between the higher elevations of the Mayacamas Mountains in the western portion of the county and the lower elevations of Bachelor, Middle Creek, and Clover Creek Valleys, where the proposed AVA is located. The table below shows the average annual rainfall amounts for the weather station in Upper Lake, California, which is within the proposed AVA, for the years 2011 through 2016. The data was collected by the Western Weather Group ¹⁶ on behalf of the Lake County Winegrape Commission. Data was unavailable for 2013.

¹⁶ http://www.westernwx.com/LakeCo/.

Table 1—Average Annual Rainfall Amounts for Upper Lake Weather Station
Year | Rainfall amount (inches)
2016 | 41.43.
2015 | 20.53.
2014 | 38.34.
2013 | unavailable.
2012 | 41.08.
2011 | 28.43.

The average annual rainfall amount for the available years was 33.96. The petition states that, although rainfall data was not available from the weather station for 2013, the average rainfall amounts for the available years is comparable to the average rainfall recorded by the Western Region Climate Center ¹⁷ for the period of January 1, 1893, through November 12, 2006, which is 34.09 inches.

¹⁷ www.wrcc.dri.edu/cgi-bin/cliMAIN.pl?ca9173.

The petition also included annual predicted rainfall amounts for the Upper Lake Groundwater Basin, where the proposed AVA is located, and the surrounding groundwater basins. The data shows that annual predicted rainfall amounts for the Upper Lake Groundwater Basin are higher than the predicted amounts for each of the surrounding basins, except for the basin to the north of the proposed AVA.

Table 2—Annual Predicted Rainfall Amounts 18
Basin name | Direction from proposed AVA | Rainfall amounts (inches)
Upper Lake Basin | Within | 35-43
Big Valley Basin | South | 22-35
High Valley Basin | East | 27-35
Scotts Valley Basin | West | 31-35
Gravelly Valley Basin | North | 49

The petition states that the high annual rainfall amounts in the proposed Upper Lake Valley AVA recharge the Upper Lake Groundwater Basin, which is used for irrigation. The rainfall amounts are also sufficient during the growing season to provide hydration for grapevines. The petition states that grapes require an average of 8 to 11 acre inches of water per year in order to successfully produce and ripen fruit.¹⁹

¹⁸ California Department of Water Resources. California's Ground Water Bulletin 118. California Department of Water Resources: 1975. Updated 2004.

¹⁹ Ryan Keiffer, Agricultural Technician, UCCE Mendocino, and Dr. Broc Zoller, Pest Control Advisor, Kelseyville. Vineyard Water Use in Lake County, California. December 1, 2014.

Frost-free days. According to the petition, the growing season, which is broadly defined as the number of days between the last frost event in the spring and the first frost event in the fall, is an important indicator for successful wine grape cultivation. The following table shows the median, maximum, and minimum number of frost-free days recorded at the Upper Lake climate station from 2011 through 2016,²⁰ as well as from the seven established AVAs in Lake County, which were derived from the 1971-2000 climate normals.²¹ Data was not provided for the region to the north of the proposed AVA.

²⁰ Data collected by the Western Weather Group on behalf of the Lake County Winegrape Commission; see http://www.westernwx.com/LakeCo/.

²¹ Jones, G. V. (2014). Climate Characteristics for Winegrape Production in Lake County, California. Open Report to the Lake County Winegrape Commission. p. 14.

Table 3—Frost-Free Days
AVA name (direction from proposed AVA) | Median | Maximum | Minimum
Upper Lake Valley | 202 | 232 | 172
Big Valley District-Lake County (South) | 195 | 228 | 190
Kelsey Bench-Lake County (South) | 198 | 227 | 192
Clear Lake (Encompasses) | 200 | 260 | 174
Guenoc Valley (Southeast) | 216 | 261 | 211
High Valley (East) | 236 | 255 | 190
Red Hills Lake County (South) | 241 | 255 | 194
Benmore Valley (West) | 248 | 250 | 243

The data in the table indicates that the proposed Upper Lake Valley AVA has substantially shorter median, maximum, and minimum frost-free periods than the established AVAs to the east, southeast, and west, and a longer frost-free period than the established AVAs to the south, except for the Red Hills Lake County AVA (27 CFR 9.169). The proposed AVA has a frost-free period similar in length to that of the Clear Lake AVA, which encompasses the proposed AVA and also includes the Big Valley District-Lake County (27 CFR 9.232), Kelsey Bench-Lake County (27 CFR 9.233), High Valley (27 CFR 9.189), and Red Hills Lake County AVAs.

The petition states that the length of the frost-free period for a region impacts viticulture. Spring frosts that occur after bud break can cause tender shoots and forming grape clusters to burn and die, resulting in crop loss and lower yields. Early fall frosts impact the ability of sugar levels in the grapes to reach a desirable Brix level.

Wind. The petition states that the winds in the proposed Upper Lake Valley AVA are influenced by the mountains that lie to the west, north, and east, and by Clear Lake to the south. Winds within the proposed AVA are predominantly from the south-southeast or north during the daytime and from the north during the night. Wind speeds within the proposed AVA are lower than within many other parts of Lake County, but the winds are frequent during both the day and night. Winds are calm (below 1 mile per hour) only 2.23 percent of the time during daytime hours and 3.04 percent of the time during nighttime hours.²² The highest daytime wind speeds range from 11 to 20 miles per hour but only occurred 1.25 percent of the time. Wind speeds between 1 and 5 miles per hour accounted for 82.88 of the daytime wind speeds. Nighttime wind speeds were also mostly between 1 and 5 miles per hour, accounting for 88.86 of the nighttime wind speeds. Wind speeds above 20 miles per hour were not recorded within the proposed AVA.

²² Data collected by the Western Weather Group from 2008-2013.

The petition included wind speed information from the Kelsey Bench-Lake County, Red Hills Lake County, and Guenoc Valley AVAs (27 CFR 9.26) for comparison. That information is presented in the table below and was collected from the same time period as the wind speed data from the proposed AVA. TTB notes that none of the surrounding region had wind speeds above 30 miles per hour.

Table 4—Daytime Wind Speed Data for Surrounding Regions
Region (direction from proposed AVA) | Frequency of wind speed (percent): <1 mile per hour | Frequency of wind speed (percent): 1-5 miles per hour | Frequency of wind speed (percent): 6-10 miles per hour | Frequency of wind speed (percent): 11-20 miles per hour | Frequency of wind speed (percent): 21-30 miles per hour
Kelsey Bench-Lake County (South) | 8.44 | 64.02 | 22.08 | 5.46 | 0
Red Hills Lake County (South) | 5.21 | 71.22 | 21.34 | 2.23 | 0
Guenoc Valley (Southeast) | 10.89 | 77.23 | 7.43 | 3.96 | 0.5

Table 5—Nighttime Wind Speed Data for Surrounding Regions
Region (direction from proposed AVA) | Frequency of wind speed (percent): <1 mile/hour | Frequency of wind speed (percent): 1-5 miles/hour | Frequency of wind speed (percent): 6-10 miles/hour | Frequency of wind speed (percent): 11-20 miles/hour | Frequency of wind speed (percent): 21-30 miles/hour
Kelsey Bench-Lake County (South) | 12.66 | 69.87 | 11.90 | 5.06 | 0.51
Red Hills Lake County (South) | 11.42 | 65.23 | 21.83 | 1.52 | 0
Guenoc Valley (Southeast) | 10.89 | 77.23 | 7.43 | 3.96 | 0.5

Although the predominant daytime and nighttime wind speeds in the proposed AVA and the surrounding regions were between 1 and 5 miles per hour, the proposed Upper Lake Valley had the greatest percent of wind speeds within that range. The proposed AVA also had the smallest percentage of calm winds, defined as wind speeds of less than 1 mile per hour. The proposed AVA also did not record any wind speeds over 20 miles per hour, whereas the Kelsey Bench-Lake County AVA recorded daytime wind speeds over 20 miles per hour and the Guenoc Valley AVA recorded both daytime and nighttime wind speeds over 20 miles per hour.

The petition states that air movement keeps the fruit and canopies cool and dry. In this way, the air movement plays a key role by preventing mildew and other pests in the vineyard and translates to a lesser need for application of pesticides.

Heat summation. The petition provided information on the heat summation values of the proposed Upper Lake Valley AVA and the surrounding regions. Heat summation is calculated as the sum of the mean monthly temperature above 50 degrees Fahrenheit (F) during the growing season from April 1 to October 31 and is expressed as growing degree days (GDDs). A baseline of 50 degrees F is used because there is almost no shoot growth below this temperature.²³ The following table is derived from information in the petition and shows the median, maximum, and minimum GDD accumulations for the proposed Upper Lake Valley AVA and the surrounding regions.²⁴ GDD information was not provided for the region to the north of the proposed AVA.

²³ Albert J. Winkler et al., General Viticulture (Berkeley: University of California Press, 2nd ed. 1974), pages 67-71.

²⁴ The GDD data for the proposed AVA was calculated from data from the weather station in Upper Lake from 2011-2016. The data from the surrounding regions was calculated from 1971-2000 climate normal. See Jones, G.V. (2014). Climate Characteristics for Winegrape Production in Lake County, California. Open Report to the Lake County Winegrape Commission. p. 23.

Table 6—Growing Degree Days
Region (direction from proposed AVA) | Median | Maximum | Minimum
Proposed AVA | 3,158 | 3,343 | 2,809
Clear Lake (Encompasses) | 3,267 | 3,811 | 2,799
High Valley (East) | 3,548 | 3,755 | 3,139
Guenoc Valley (Southeast) | 3,481 | 3,796 | 3,420
Big Valley District-Lake County (South) | 3,245 | 3,281 | 3,171
Kelsey Bench-Lake County (South) | 3,250 | 3,593 | 3,189
Red Hills Lake County (South) | 3,595 | 3,753 | 3,155
Benmore Valley (West) | 3,248 | 3,332 | 3,155

According to the data in the table, the proposed Upper Lake Valley AVA has a lower median GDD accumulation than each of the surrounding regions for which data was provided. The maximum GDD accumulation for the proposed AVA is lower than each of the regions except for the Big Valley District-Lake County AVA to the south and the Benmore Valley AVA to the west. The minimum GDD accumulation for the proposed AVA is also lower than each of the surrounding regions except for the larger Clear Lake AVA, which encompasses the proposed AVA as well as the Big Valley District-Lake County, Kelsey Bench-Big Valley, and Red Hills Lake County AVAs and most of the High Valley AVA.

The petition states that GDD accumulations are an important factor in predicting a site's suitability for growing specific grape varieties. Varietals that require warmer climates in order to ripen will do better in regions with higher GDD accumulations. The petition states that the moderate climate of the proposed AVA makes it suitable for growing a variety of grapes, including Sauvignon Blanc.

Summary of Distinguishing Features

In summary, the hydrogeology, soils, and climate of the proposed Upper Lake Valley AVA distinguish it from the surrounding regions. The following table summarizes the distinguishing features of the proposed AVA and compares them to the features of the surrounding regions.

Table 7—Summary of Distinguishing Features
Region | Hydrogeology | Soils | Climate
Proposed AVA | Upper Lake Groundwater Basin; high iron, manganese, and calcium levels; groundwater levels generally within 10 feet of the surface, with minimal seasonal fluctuations; low levels of dissolved solids | Millsholm-Skyhigh-Bressa, Still-Lupoyoma, and Tulelake-Fluvaquentic-Haplawuolls soil map units; moderately deep to very deep; poorly drained to well-drained | Average annual rainfall of 35-43 inches; median frost-free period of 202 days; wind speeds predominantly between 1 and 5 mph, are calm 2.23-3.04 percent of the time, and do not exceed 20 mph; median GDD accumulations of 3,158.
North | Gravelly Valley Groundwater Basin | Maymen-Etsel and Sanhedrin-Speaker-Kekawaka soil map units; contain outcroppings of large stones | Average annual rainfall of 49 inches; other climate data not available.
East | High Valley Groundwater Basin; high levels of ammonia, phosphorous, chloride, iron, boron, and manganese; groundwater levels 10 to 30 feet below the surface, with seasonal fluctuations and incidences of slow recovery after periods of drought | Maymen-Estel, Sobrante-Guenoc-Hambright, and Sanhedrin-Speaker-Kekawaka soil map units; found on very steep slopes | Average annual rainfall of 27-35 inches; longer frost-free period; winds are more frequently calm but do exceed 20 mph; higher median GDD accumulations.
South | Big Valley Groundwater Basin; boron is an impairment in some parts of the basin; groundwater levels vary between northern and southern parts of the basin but are generally deeper than within proposed AVA and have greater seasonal fluctuations | Cole-Clear Lake Variant-Clear Lake soil map unit | Average annual rainfall of 22-35 inches; longer median frost-free period in Red Hills Lake County AVA, and a shorter median frost-free period in Big Valley District-Lake County AVA; winds are more frequently calm but do exceed 20 mph; higher median GDD accumulations.
West | Scotts Valley Groundwater Basin; iron, manganese, and boron are listed as impairments; groundwater is 10 feet below the surface on the average, with seasonal fluctuations depending on location across the Scotts Valley Basin | Millsholm-Skyhigh-Bressa soil map unit, transitioning to Maymen-Etsel soil map unit in the higher elevations of the Mayacamas Mountains | Average annual rainfall of 31-35 inches; longer median frost-free period; wind data not available; higher median GDD accumulations.

Comparison of the Proposed Upper Lake Valley AVA to the Existing Lake County AVA

T.D. ATF-174, which published in the Federal Register on May 8, 1984 (49 FR 19466), established the Clear Lake AVA. T.D. ATF-174 cited elevation, climate, and watershed as distinguishing features of the Clear Lake AVA. Elevations for vineyards ranged from 1,300 to 1,800 feet. The Clear Lake AVA has a growing season of 223 days and an average annual rainfall amount of about 37 inches. The AVA is also located within the Clear Lake watershed, which is said to affect the climate patterns of the AVA.

The proposed Upper Lake Valley AVA is located in the northern portion of the Clear Lake AVA and shares some of the same general features. For instance, vineyards in the proposed AVA are planted at elevations between 1,330 and 1,450 feet, which is within the range of vineyard elevations for the Clear Lake AVA. The proposed AVA is also within the Clear Lake watershed, and Clear Lake has a moderating effect on the proposed AVA's climate. However, the proposed Upper Lake Valley AVA petition describes the Clear Lake AVA as having many different microclimates, including the proposed Upper Lake Valley AVA. As a microclimate within the Clear Lake AVA, the proposed AVA has unique characteristics, which may warrant its establishment as a new AVA. For example, the proposed AVA has a shorter median growing season and receives more rainfall annually than the Clear Lake AVA overall. The proposed AVA also has a median heat summation of 3,158 GDDs, while the Clear Lake AVA has a higher overall median heat summation of 3,267 GDDs.

Proposed Modification of the Clear Lake AVA

As previously noted, the petition to establish the proposed Upper Lake Valley AVA also requested an expansion of the established Clear Lake AVA. The proposed Upper Lake Valley AVA is located in the northern portion of the Clear Lake AVA. Most of the proposed Upper Lake Valley AVA, if established, would be located within the current boundary of the Clear Lake AVA. However, unless the boundary of the Clear Lake AVA is modified, a small portion of the proposed Upper Lake Valley AVA, along Scotts Creek, would be outside the Clear Lake AVA.

Currently, the Clear Lake AVA boundary in the vicinity of the proposed AVA and the proposed expansion area follows a straight line drawn from the summit of Griner Peak, south of the proposed AVA, to the summit of Hells Peak, north of the proposed AVA. The portion of the proposed Upper Lake Valley AVA that would be outside the Clear Lake AVA (the “proposed expansion area”) follows Scotts Creek west of Tule Lake and contains one vineyard. If the proposed modification of the Clear Lake AVA boundary is finalized, the entire proposed Upper Lake Valley AVA would be situated within the Clear Lake AVA.

The petition states that the name “Clear Lake” is associated with the proposed expansion area. T.D. ATF-174 noted that Scotts Valley is a prominent growing area within the Clear Lake AVA. The southern portion of Scotts Valley, as well as the portion of Scotts Creek east of Tule Lake, are both currently within the Clear Lake AVA. The proposed expansion area contains the northern portion of Scotts Valley and the portion of Scotts Creek west of Tule Lake. The expansion petition states that because Scotts Valley, and by extension Scotts Creek which runs through the valley, was specifically mentioned in the original Clear Lake AVA petition as a region within the area known as “Clear Lake,” the proposed expansion area also meets this criteria to be known as “Clear Lake.”

T.D. ATF-174 defined elevation, watershed, and climate as the distinguishing features of the Clear Lake AVA. The expansion petition asserts that the proposed expansion area shares these characteristics of the Clear Lake AVA. First, elevations within the Clear Lake AVA range from 1,300 to over 4,000 feet, according to T.D. ATF-174. At the time the AVA was established, most of the vineyards were planted on flat or gently rolling land with elevations between 1,300 and 1,800 feet. The proposed expansion petition states that elevations within the proposed expansion area are similar to those of the Clear Lake AVA. The vineyard within the proposed expansion area is located at approximately 1,360 feet, well within the range of elevations of other vineyards found in the Clear Lake AVA.

T.D. ATF-174 stated that the Clear Lake watershed is an important feature of the Clear Lake AVA because of its effect on the climate within the AVA. The proposed expansion petition included a map of the Clear Lake watershed, which shows that the entirety of Scotts Creek, including the portion within the proposed expansion area, is within the Clear Lake watershed. The map is included as Figure 5 in the petition addendum and is included in the public docket.

Finally, T.D. ATF-174 described the climate of the Clear Lake AVA. Annual rainfall within the established AVA was approximately 37 inches, and the region had a frost-free period of approximately 223 days. Within the Clear Lake AVA, growing degree accumulations placed the northern portion in the Winkler Region II and the southern portion in Winkler Region III, including the portion of Scotts Valley currently within the AVA. According to the proposed expansion petition, the average annual rainfall within the proposed expansion area from 2012 through 2017 was 33.61 inches. Although this is lower than the average annual rainfall amount for the Clear Lake AVA described in T.D. ATF-174, it is within the range of the 2012-2017 rainfall amounts for other locations within the Clear Lake AVA which were included in the expansion petition. Those average amounts ranged from a high of 36.37 at Upper Lake to a low of 23.68 at Kelseyville. Within the proposed expansion area, growing degree accumulations for the period from 2013 to 2016 ranged from 2,985 to 3,364, which places the region in Winkler Regions II and III, similar to the Clear Lake AVA as described in T.D. ATF-174.

TTB notes that the expansion petition included data on the frost-free period of the proposed expansion area and other regions within the Clear Lake AVA. However, the data suggested that the frost-free period in the proposed expansion area is shorter than that of the Clear Lake AVA. Therefore, based on the data, TTB cannot determine that the frost-free period within the proposed expansion area is the same as within the Clear Lake AVA.

Comparison of the Proposed Upper Lake Valley AVA to the Existing North Coast AVA

The North Coast AVA was established by T.D. ATF-145, published in the Federal Register on September 21, 1983 (48 FR 42973). It includes all or portions of Napa, Sonoma, Mendocino, Lake, Marin, and Solano Counties in California. T.D. ATF-145 describes the topography of the North Coast AVA as “valleys between the coast ranges running parallel to the Pacific Ocean shore and the lower slopes of these ranges.” GDD accumulations for the North Coast AVA range from Region I to Region III.²⁵ Average rainfall in the North Coast AVA varies widely, ranging from 24.8 inches in one location in the AVA to 62.2 inches in another part of the AVA.

²⁵ Id.

The proposed Upper Lake Valley AVA shares some of the same general characteristics as the North Coast AVA. The proposed AVA is comprised of valleys between mountainous areas and the lower slopes of the mountains. The GDD accumulations for the proposed AVA classify it as a low Region III. However, the proposed AVA is much more uniform in its climatic features, namely temperature, soils, and topography than the diverse, multicounty North Coast AVA. In this regard, TTB notes that T.D. ATF-145 specifically states that “approval of this viticultural area does not preclude approval of additional areas, either wholly contained with the North Coast, or partially overlapping the North Coast,” and that “smaller viticultural areas tend to be more uniform in their geographical and climatic characteristics, while very large areas such as the North Coast tend to exhibit generally similar characteristics, in this case the influence of maritime air off of the Pacific Ocean and San Pablo Bay.” Thus, the proposal to establish the Upper Lake Valley AVA is consistent with what was envisioned when the North Coast AVA was established.

TTB Determination

TTB concludes that the petition to establish the 17,360-acre Upper Lake Valley AVA and to concurrently modify the boundary of the established Clear Lake AVA merits consideration and public comment, as invited in this notice of proposed rulemaking.

TTB is proposing the establishment of the new AVA and the modification of the existing AVA as one action. Accordingly, if TTB establishes the proposed Upper Lake Valley AVA, then the proposed boundary modification of the Clear Lake would be approved concurrently. If TTB does not establish the proposed Upper Lake Valley AVA, then the present Clear Lake AVA boundary would not be modified.

Boundary Description

See the narrative description of the boundary of the petitioned-for AVA and the proposed expansion of the Clear Lake AVA in the proposed regulatory text published at the end of this proposed rule.

Maps

The petitioner provided the required maps, and they are listed below in the proposed regulatory text. You may also view the proposed Upper Lake Valley AVA boundary and the proposed expansion of the Clear Lake AVA boundary on the AVA Map Explorer on the TTB website, at https://www.ttb.gov/wine/ava-map-explorer.

Impact on Current Wine Labels

Part 4 of the TTB regulations prohibits any label reference on a wine that indicates or implies an origin other than the wine's true place of origin. For a wine to be labeled with an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes this proposed AVA, its name, “Upper Lake Valley,” will be recognized as a name of viticultural significance under § 4.39(i)(3) of the TTB regulations (27 CFR 4.39(i)(3)). The text of the proposed regulation clarifies this point. Consequently, wine bottlers using the name “Upper Lake Valley” in a brand name, including a trademark, or in another label reference as to the origin of the wine, would have to ensure that the product is eligible to use the AVA name as an appellation of origin if this proposed rule is adopted as a final rule.

The approval of the proposed Upper Lake Valley AVA would not affect any existing AVA, and any bottlers using “Clear Lake” or “North Coast” as an appellation of origin or in a brand name for wines made from grapes grown within the Clear Lake or North Coast AVAs would not be affected by the establishment of this new AVA. The establishment of the proposed Upper Lake Valley AVA would allow vintners to use “Upper Lake Valley,” “Clear Lake,” and “North Coast” as appellations of origin for wines made from grapes grown within the proposed Upper Lake Valley AVA if the wines meet the eligibility requirements for the appellation. Additionally, vintners would be allowed to use “Upper Lake Valley,” “Clear Lake,” and “North Coast” as appellations of origin for wines made from grapes grown within the proposed Clear Lake AVA expansion area if the wines meet the eligibility requirements for the appellation.

Public Participation

Comments Invited

TTB invites comments from interested members of the public on whether it should establish the proposed AVA and concurrently modify the boundary of the established Clear Lake AVA. TTB is interested in receiving comments on the sufficiency and accuracy of the name, boundary, soils, climate, hydrogeology, and other required information submitted in support of the petition. In addition, given the proposed Upper Lake Valley AVA's location within the existing Clear Lake and North Coast AVAs, TTB is interested in comments on whether the evidence submitted in the petition regarding the distinguishing features of the proposed AVA sufficiently differentiates it from the existing established AVAs. TTB is also interested in comments on whether the geographic features of the proposed AVA are so distinguishable from the surrounding Clear Lake or North Coast AVA that the proposed Upper Lake Valley AVA should no longer be part of that AVA. Please provide any available specific information in support of your comments.

TTB also invites comments on the proposed expansion of the existing Clear Lake AVA. TTB is specifically interested in receiving comments on the similarity of the proposed expansion area to the established Clear Lake AVA, as well as the differences between the proposed expansion area and the areas outside the Clear Lake AVA. Comments should address the boundaries, elevation, climate, watershed, and any other pertinent information that supports or opposes the proposed Clear Lake AVA boundary expansion.

Because of the potential impact of the establishment of the proposed Upper Lake Valley AVA on wine labels that include the term “Upper Lake Valley” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the AVA.

Submitting Comments

You may submit comments on this notice by using one of the following methods:

• Federal e-Rulemaking Portal: You may send comments via the online comment form posted with this notice within Docket No. TTB-2021-0001 on “Regulations.gov,” the Federal e-rulemaking portal, at https://www.regulations.gov. A direct link to that docket is available under Notice No. 200 on the TTB website at https://www.ttb.gov/wine/wine-rulemaking.shtml. Supplemental files may be attached to comments submitted via Regulations.gov.

• U.S. Mail: You may send comments via postal mail to the Director, Regulations and Rulings Division, Alcohol and Tobacco Tax and Trade Bureau, 1310 G Street NW, Box 12, Washington, DC 20005.

Please submit your comments by the closing date shown above in this notice. Your comments must reference Notice No. 200, and also must be made in English, be legible, and be written in language acceptable for public disclosure. TTB does not acknowledge receipt of comments, and TTB considers all comments as originals.

In your comment, please clearly state if you are commenting for yourself or on behalf of an association, business, or other entity. If you are commenting on behalf of an entity via Regulations.gov, please use the “organization” version of the comment form and include the entity's name, as well as your name and position title in the comment. If you comment via postal mail, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2021-0001 on the Federal e-rulemaking portal, Regulations.gov, at https://www.regulations.gov. A direct link to that docket is available on the TTB website at https://www.ttb.gov/wine/wine_rulemaking.shtml under Notice No. 200. You may also reach the relevant docket through the Regulations.gov search page at https://www.regulations.gov.

If provided, posted comments will display the commenter's name, organization (if any), city, and State, and, in the case of mailed comments, all address information, including email addresses. TTB may omit voluminous attachments or material that the Bureau considers unsuitable for posting.

You may also obtain copies of this proposed rule, all related petitions, maps and other supporting materials, and any electronic or mailed comments that TTB receives about this proposal at 20 cents per 8.5- x 11-inch page. Please note that TTB is unable to provide copies of USGS maps or any similarly-sized documents that may be included as part of the AVA petition. Contact TTB's Regulations and Rulings Division by email using the web form at https://www.ttb.gov/contact-rrd, or by telephone at 202-453-1039, ext. 175, to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

2. Amend § 9.99 by:

a. Removing the period at the end of paragraph (b)(4) and adding a semicolon in its place;

b. Adding paragraph (b)(5);

c. Redesignating paragraphs (c)(11) through (c)(17) as paragraphs (c)(15) through (c)(21); and

d. Adding new paragraphs (c)(11) through (c)(14).

The additions read as follows:

§ 9.99 Clear Lake.

* * * * *

(b) * * *

(5) “Upper Lake Quadrangle, California,” 7.5 minute series, 1996.

(c) * * *

(11) Then southeasterly in a straight line, crossing onto the Upper Lake quadrangle, to the intersection of the 1,600-foot elevation contour and an unnamed 4-wheel drive road in Section 9, T15N/R10W;

(12) Then northwesterly, then southwesterly along the 1,600-foot elevation contour to a point in Section 8, T15N/R10W, that is due north of the westernmost structure in a row of three structures located south of Scotts Creek;

(13) Then south in a straight line, crossing over Scotts Creek and the westernmost structure, to the intersection with an unnamed, unimproved road and the 1,600-foot elevation contour in Section 17, T15N/R10W;

(14) Then generally east along the 1,600-foot elevation contour to its second intersection with an unnamed, unimproved road in section 15, T15N/R10W;

* * * * *

3. Subpart C is amended by adding § 9.to read as follows:

Subpart C—Approved American Viticultural Areas

§ 9.___ Upper Lake Valley.

(a) Name. The name of the viticultural area described in this section is “Upper Lake Valley”. For purposes of part 4 of this chapter, “Upper Lake Valley” is a term of viticultural significance.

(b) Approved maps. The four United States Geological Survey (USGS) 1:24,000 scale topographic maps used to determine the boundary of the Upper Lake Valley viticultural area are titled:

(1) Lakeport, 1958; photorevised 1978; minor revision 1994;

(2) Upper Lake, 1996;

(3) Bartlett Mountain, 1996; and

(4) Lucerne, 1996.

(c) Boundary. The Upper Lake Valley viticultural area is located in Lake County, California. The boundary of the Upper Lake Valley viticultural area is as described below:

(1) The beginning point is on the Lakeport map at the intersection of Lyons Creek and the western shore of Clear Lake in Section 31, T15N/R9W. From the beginning point, proceed south in a straight line to an unnamed light-duty road known locally as Lafferty Road; then

(2) Proceed west along Lafferty Road to its intersection with an unnamed secondary highway known locally as Lakeshore Boulevard; then

(3) Proceed north on Lakeshore Boulevard to its intersection with an unnamed light-duty road known locally as Whalen Way; then

(4) Proceed west on Whalen Way to its intersection with State Highway 29; then

(5) Proceed north on State Highway 29, crossing onto the Upper Lake map, to the intersection of the highway and the southern boundary of Section 13, T15N, R10W; then

(6) Proceed west along the southern boundary of Sections 13 and 14 to the intersection of the southern boundary of Section 14 with the 1,600-foot elevation contour; then

(7) Proceed in a generally northwesterly direction along the meandering 1,600-foot elevation contour to its intersection with an unnamed, unimproved road in Section 17, T15N/R10W; then

(8) Proceed north in a straight line, crossing Scotts Creek, to the 1,600-foot elevation contour in Section 8, T15N/R10W; then

(9) Proceed northeasterly, then southeasterly along the 1,600-foot elevation contour to its intersection with an unnamed 4-wheel drive road in Section 9, T15N/R10W; then

(10) Proceed northwest in a straight line to the marked 2,325-foot elevation point on Hell's Peak; then

(11) Proceed southeast in a straight line to the intersection of the 1,600-foot elevation contour and the southern boundary of Section 30 along the Mendocino National Forest boundary, T16N/R9W; then

(12) Proceed southeast along the meandering 1,600-foot elevation contour to its third intersection with the Mendocino National Forest boundary, along the eastern boundary of Section 31, T16N/R9W; then

(13) Proceed south, then west along the Mendocino National Forest boundary to its intersection with the 1,600-foot elevation contour along the northern boundary of Section 5, T15N/R9W; then

(14) Proceed southeasterly along the meandering 1,600-foot elevation contour, crossing onto the Bartlett Mountain map, to the intersection of the 1,600-foot elevation contour and the Mendocino National Forest boundary along the eastern boundary of Section 9, T15N/9RW; then

(15) Proceed south, then east along the Mendocino National Forest boundary to its intersection with the 1,600-foot elevation contour along the northern boundary of Section 15, T15N/R9W; then

(16) Proceed south, then northwest along the meandering 1,600-foot elevation contour, crossing onto the Upper Lake map, and continuing southeasterly along the 1,600-foot elevation contour crossing back and forth between the Bartlett Mountain map and the Upper Lake map, to the intersection of the 1,600-foot elevation contour and an unimproved 4-wheel drive road in Section 21, T15N/R9W; then

(17) Continue southeast along the 1,600-foot elevation contour, crossing onto the Lucerne map, to the intersection of the 1,600-foot elevation contour and an unimproved 4-wheel drive road in Section 36, T15N/R9W; then

(18) Proceed south in a straight line to the shoreline of Clear Lake; then

(19) Proceed northeasterly along the shoreline of Clear Lake, crossing onto the Lakeport map, and continuing southwesterly along the shoreline, crossing Rodman Slough, to return to the beginning point.

Signed: January 25, 2021.
Mary G. Ryan,
Administrator.
Approved: March 24, 2021.
Timothy E. Skud,
Deputy Assistant Secretary (Tax, Trade, and Tariff Policy).

[FR Doc. 2021-07626 Filed 4-15-21; 8:45 am]

BILLING CODE 4810-31-P